DEPARTMENT OF COMMERCE

International Trade Administration

Mission Statement; Aerospace Executive Service at Latin America Aero and Defence 2009 April 14-17, 2009

AGENCY: Department of Commerce.

ACTION: Notice.

Mission Description

The United States Department of Commerce, International Trade Administration, U.S. and Foreign Commercial Service is organizing an Aerospace Executive Service (AES) trade mission to the Latin America Aero and Defence (LAAD) 2009 show, in Rio de Janeiro, Brazil, April 14-17, 2009. LAAD is in its sixth biennial year and is a certified U.S. Department of Commerce trade show. The AES will include representatives from a variety of U.S. aerospace-industry manufacturers and service providers. The mission participants will benefit from individual, pre-screened appointments at the Riocentro trade show location with potential agents, distributors, and end-users whose capabilities are targeted to each U.S. participant's requirements. Participating companies will also benefit from exhibitor access to the trade show, a product literature display at LAAD, country briefings, and logistical support during the trade mission program.

Commercial Setting

LAAD features equipment and services for the internal security and Special Forces, as well as state-of-the-art equipment and services to the conventional armed forces of Latin America. Visitors include military, aerospace, and airline decision makers from throughout Latin America and the world. In 2007, 315 companies from 28 countries exhibited a wide range of commercial and military aerospace and ground support equipment and services, including aerospace materials and interiors, airport ground support equipment, aircraft maintenance services and equipment, avionics and radar systems, simulators and training equipment and unmanned aerial vehicles.

Latin America's defense market represents emerging opportunities for aerospace manufacturers with a growing demand for new and upgraded fighters, surveillance and patrol platforms, air-to-air tankers and counter-insurgency/anti-narcotics equipment. Military expenditures in Latin America are expected to reach $32.2 billion in 2009. In addition, Latin American governments plan to introduce new and updated systems. Specifically Brazil, Colombia, Mexico, and Chile are planning to procure nuclear-powered submarine capability, technologies for counter-insurgency operations against guerillas and illicit drug crops, counter-narcotics, and tanker aircraft for in-flight refueling.

In Brazil, the armed forces are continuing to modernize its equipment and systems. The Government of Brazil is making financing a priority in order for the Brazilian Air Force to address its most urgent updating requirements. Additionally, Latin American countries are participating in United Nations-sponsored peace keeping and disaster relief missions throughout the world, creating additional procurement requirements.

Mission Goals

The goal of the AES at Latin America Aerospace and Defence (LAAD) 2009 is to facilitate an effective presence for small- to medium-sized U.S. companies that may not yet be ready to incur the major expenses associated with purchasing and staffing exhibition space. The AES enables U.S. aerospace companies to familiarize themselves with this important trade fair, to conduct market research, and to explore export opportunities through pre-screened meetings with potential partners. With Commercial Service staff on hand to help further company-specific objectives, the AES provides access to Brazil and other international markets and business partners in a manner that cannot be matched by simply attending the show as a visitor.

Mission Scenario

The AES at LAAD will formally begin on Tuesday, April 14, 2009, with a company briefing and visit to the trade show on the opening day. On Wednesday, April 15, and Thursday, April 16, AES participants will benefit from pre-screened meetings (with up to eight appointments per company) with prospective distributors and end-users arranged by the Commercial Service in Brazil. These meetings will be held in private rooms at the Riocentro Convention Center. No exhibition or larger demonstration items will be permitted, unless the AES participating company separately purchases exhibitor booth space directly from Clarion Expo, the show organizer. On the final day of the show, Friday, April 17, AES participants can visit the show floor at LAAD and hold their own independently scheduled follow up meetings, with Commercial Service staff available at the show to assist, as needed.

The AES package at LAAD 2009 also includes the following:

• Official show entry (or exhibitor) passes.

• Listing in the LAAD 2009 Exhibitor's Directory.

• Company product literature on display in the U.S. booth.

• Logistical support (interpreter for pre-scheduled meetings, ground transportation to/from the show each day, and coordination of hotel arrangements).

Proposed Mission Timetable

Monday, April 13, 2009 | Companies arrive in Rio de Janeiro.
Tuesday, April 14, 2009 | Official trade show briefing and visit to LAAD 2009.
Wednesday, April 15, Thursday, April 16 | Pre-screened individual meetings at show location.
Friday, April 17 | Companies visit LAAD for individual follow-up. AES concludes.

Participation Requirements

All parties interested in participating in the AES at LAAD 2009 must complete and submit an application package for consideration by the Department of Commerce. All applicants will be evaluated on their ability to meet certain conditions and best satisfy the selection criteria as outlined below. A minimum of 5 and maximum of 6 companies will be selected to participate in the mission from the applicant pool. U.S. companies already doing business in Latin America as well as U.S. companies seeking to enter Latin American markets for the first time may apply.

Fees and Expenses:

After a company has been selected to participate on the mission, a payment to the Department of Commerce in the form of a participation fee is required. The participation fee will be $4,500 for large firms and $3,000 for a small or medium-sized enterprise (SME).* The fee for each additional firm representative (large firm or SME) is $350. Expenses for travel, lodging, most meals, and incidentals will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation:

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

• Each applicant's products must meet LAAD 2009 trade fair rules. Regulation information can be found at the show's Web site at http://www.laadexpo.com/2009/eng/index.asp.

Selection Criteria: Selection will be based on the following criteria:

• Suitability of the company's products or services to the Latin American market.

• Applicant's potential for business in Latin America, including likelihood of exports resulting from the mission.

• Relevance of the company's business line to the mission's goals.

Referrals from political organizations and any documents containing references to partisan political activities (including political contributions) will be removed from an applicant's submission and not considered during the selection process.

Timeframe for Recruitment and Applications

Mission recruitment will be conducted in an open and public manner, including publication in the Federal Register posting on the Commerce Department trade missions calendar— http://www.ita.doc.gov/doctm/tmcal.html—and other Internet Web sites, publication in domestic trade publications and association newsletters, mailings from internal mailing lists, faxes to internal database aerospace clients, email to aerospace distribution lists, and announcements at industry meetings, conferences, and trade shows. ITA Aerospace and Defense Technology Team members in U.S. Export Assistance Centers will have the lead in recruiting the AES Program.

Recruitment for the mission will begin immediately and conclude no later than March 1, 2009. Applications will be available online at http://www.buyusa.gov/connecticut/laad2009.html. They can also be obtained by contacting the Mission Contacts listed below. The mission will open on a first come first served basis. Applications received after March 1, 2009 will be considered only if space and scheduling constraints permit.

Contacts:

Melissa Grosso, U.S. Commercial Service Middletown, Tel: 860-638-6955, Melissa.Grosso@mail.doc.gov.

Genard Burity, U.S. Commercial Service, Rio de Janeiro, Tel: 55-21-3823-2401, Genard.Burity@mail.doc.gov.

Daniele Andrews, U.S. Commercial Service, Brasilia , Tel: 55-61-312-7458, Daniele.Andrews@mail.doc.gov,

Sean Timmins,
Global Trade Programs, Commercial Service Trade Missions Program.

[FR Doc. E9-1866 Filed 1-28-09; 8:45 am]

BILLING CODE 3510-DS-P